SMALL BUSINESS ADMINISTRATION

[Disaster Declaration #12560 and #12561]

Arkansas Disaster Number AR-00048

AGENCY: U.S. Small Business Administration.

ACTION: Amendment 1.

SUMMARY: This is an amendment of the Presidential declaration of a major disaster for the State of Arkansas (FEMA-1975-DR), dated 05/02/2011.

Incident: Severe Storms, tornadoes, and Associated Flooding.

Incident Period: 04/23/2011 and continuing.

Effective Date: 05/07/2011.

Physical Loan Application Deadline Date: 07/01/2011.

EIDL Loan Application Deadline Date: 02/02/2012.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Arkansas, dated 05/02/2011 is hereby amended to include the following areas as adversely affected by the disaster:

Primary Counties: (Physical Damage and Economic Injury Loans): Crittenden, Madison, Montgomery, Phillips, Washington.

Contiguous Counties: (Economic Injury Loans Only):

Arkansas: Clark, Crawford, Cross, Franklin, Howard, Johnson, Lee, Mississippi, Monroe, Newton, Pike, Poinsett, Polk, Saint Francis, Scott.

Mississippi: Bolivar, Coahoma, Desoto, Tunica.

Tennessee: Shelby, Tipton.

All other information in the original declaration remains unchanged.

(Catalog of Federal Domestic Assistance Numbers 59002 and 59008)

Roger B. Garland,
Acting Associate Administrator for Disaster Assistance.

[FR Doc. 2011-12257 Filed 5-17-11; 8:45 am]

BILLING CODE 8025-01-P